HARRY S. TRUMAN SCHOLARSHIP FOUNDATION

Sunshine Act Meeting; Annual Meeting of the Trustees and Officers of the Harry S. Truman Scholarship Foundation

4 to 5:30 p.m., April 9, 2003, U.S. Capitol, Room HC-8.

1. Call to Order

2. Welcome and Introductions

3. Approval of the Minutes of the 2002 Annual Meeting

4. Comments from President Albright: Priorities, Work Plan and Schedule for 2003

5. Report from Executive Secretary: 2003 Selection Process; Financial Report

6. Report on Truman Scholars Forum, March 22

7. Old Business

8. New Business

9. Adjournment

Louis H. Blair,
Executive Secretary.

[FR Doc. 03-8666 Filed 4-4-03; 1:13 pm]

BILLING CODE 6820-AD-M